ENVIRONMENTAL PROTECTION AGENCY

[EPA-HQ-OPPT-2013-0248; FRL-9391-5]

Seventy-Second Report of the TSCA Interagency Testing Committee to the Administrator of the Environmental Protection Agency; Receipt of Report and Request for Comments

AGENCY: Environmental Protection Agency (EPA).

ACTION: Notice.

SUMMARY: The Toxic Substances Control Act (TSCA) Interagency Testing Committee (ITC) transmitted its 72nd ITC Report to the Acting EPA Administrator on June 13, 2013. In the 72nd ITC Report, which is included with this notice, the ITC is revising the TSCA section 4(e) Priority Testing List by removing 16 chemicals with insufficient dermal absorption rate data, 98 High Production Volume (HPV) Challenge Program orphan chemicals, and 50 diisocyanates and related compounds. The ITC is removing 16 chemicals with insufficient dermal absorption rate data because information from dermal studies can be readily obtained through the Organization for Economic Cooperation and Development (OECD) and EPA databases or other authoritative scientific resources. The ITC is removing the 98 HPV Challenge Program orphan chemicals because they no longer meet the ≥ 1 million lb criterion for the HPV Challenge Program. The ITC is removing the 50 diisocyanates and related compounds because their production or importation volumes were not reported to the 2006 Inventory Update Reporting (IUR) rule or the 2012 Chemical Data Reporting (CDR) rule.

DATES: Comments must be received on or before August 23, 2013.

ADDRESSES: Submit your comments, identified by docket identification (ID) number EPA-HQ-OPPT-2013-0248, by one of the following methods:

• Federal eRulemaking Portal: http://www.regulations.gov. Follow the online instructions for submitting comments.

• Mail: Document Control Office (7407M), Office of Pollution Prevention and Toxics (OPPT), Environmental Protection Agency, 1200 Pennsylvania Ave. NW., Washington, DC 20460-0001.

• Hand Delivery: OPPT Document Control Office (DCO), EPA East Bldg., Rm. 6428, 1201 Constitution Ave. NW., Washington, DC. ATTN: Docket ID Number EPA-HQ-OPPT-2013-0248. The DCO is open from 8 a.m. to 4 p.m., Monday through Friday, excluding legal holidays. The telephone number for the DCO is (202) 564-8930. Such deliveries are only accepted during the DCO's normal hours of operation, and special arrangements should be made for deliveries of boxed information.

Instructions: Direct your comments to docket ID number EPA-HQ-OPPT-2013-0248. EPA's policy is that all comments received will be included in the docket without change and may be made available online at http://www.regulations.gov, including any personal information provided, unless the comment includes information claimed to be Confidential Business Information (CBI) or other information whose disclosure is restricted by statute. Do not submit information that you consider to be CBI or otherwise protected through regulations.gov or email. The regulations.gov Web site is an “anonymous access” system, which means EPA will not know your identity or contact information unless you provide it in the body of your comment. If you send an email comment directly to EPA without going through regulations.gov, your email address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave. NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For technical information contact: John D. Walker, TSCA Interagency Testing Committee (7405M), Chemical Control Division, Office of Pollution Prevention and Toxics, Environmental Protection Agency, 1200 Pennsylvania Ave. NW., Washington, DC 20460-0001; telephone number: (202) 564-7527; fax number: (202) 564-7528; email address: walker.johnd@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This notice is directed to the public in general. It may, however, be of particular interest to you if you manufacture (defined by statute to include import) and/or process TSCA-covered chemicals and you may be identified by the North American Industrial Classification System (NAICS) codes 325 and 32411. Because this notice is directed to the general public and other entities may also be interested, the Agency has not attempted to describe all the specific entities that may be interested in this action.

B. What should I consider as I prepare my comments for EPA?

1. Submitting CBI. Do not submit this information to EPA through regulations.gov or email. Clearly mark the part or all of the information that you claim to be CBI. For CBI information in a disk or CD-ROM that you mail to EPA, mark the outside of the disk or CD-DOM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

The Toxic Substances Control Act (TSCA) (15 U.S.C. 260l et seq.) authorizes the Administrator of EPA to promulgate regulations under TSCA section 4(a) requiring testing of chemicals and chemical groups in order to develop data relevant to determining the risks that such chemicals and chemical groups may present to health or the environment. Section 4(e) of TSCA established the ITC to recommend chemicals and chemical groups to the Administrator of EPA for priority testing consideration. Section 4(e) of TSCA directs the ITC to revise the TSCA section 4(e) Priority Testing List at least every 6 months.

You may access additional information about the ITC at http://www.epa.gov/oppt/itc.

A. The 72nd ITC Report

The ITC is revising the TSCA section 4(e) Priority Testing List by removing 16 chemicals with insufficient dermal absorption rate data, 98 HPV Challenge Program orphan chemicals, and 50 diisocyanates and related compounds.

B. Status of the TSCA Section 4(e) Priority Testing List

The TSCA section 4(e) Priority Testing List includes 2 alkylphenols, 50 HPV Challenge Program orphan chemicals, cadmium, a category of cadmium compounds, 6 non-phthalate plasticizers, 25 phosphate ester flame retardants, 2 other flame retardants, 9 chemicals to which children living near hazardous waste sites may be exposed, and 19 diisocyanates and related compounds.

List of Subjects

Environmental protection, Chemicals, Hazardous substances.

Dated: July 15, 2013.
Wendy C. Hamnett,
Director, Office of Pollution Prevention and Toxics.

Seventy-Second Report of the TSCA Interagency Testing Committee to the Administrator of the Environmental Protection Agency

Table of Contents

Summary

I. Background

II. ITC's Activities During This Reporting Period (December 2012 to May 2013)

III. Chemicals Removed From the TSCA Section 4(e) Priority Testing List

A. Chemicals With Insufficient Dermal Absorption Rate Data

B. HPV Challenge Program Orphan Chemicals

C. Diisocyanates and Related Compounds

IV. References

V. The TSCA Interagency Testing Committee

Summary

The ITC is revising the Toxic Substances Control Act (TSCA) section 4(e) Priority Testing List by removing 16 chemicals with insufficient dermal absorption rate data, 98 High Production Volume (HPV) Challenge Program orphan chemicals, and 50 diisocyanates and related compounds.

The TSCA section 4(e) Priority Testing List is Table 1 of this unit.

Table 1—TSCA Section 4(e) Priority Testing List
[May 2013]
ITC report | Date | Chemical name/group | Action
37 | November 1995 | Branched 4-nonylphenol (mixed isomers) | Recommended.
41 | November 1997 | Phenol, 4-(1,1,3,3-tetramethylbutyl)- | Recommended.
55 | December 2004 | 49 High Production Volume (HPV) Challenge Program orphan chemicals | Recommended.
56 | August 2005 | 1 HPV Challenge Program orphan chemical, naphtha (petroleum), clay-treated light straight-run | Recommended.
68 | May 2011 | Cadmium | Recommended.
69 | November 2011 | Cadmium compounds | Recommended.
69 | November 2011 | 6 Non-phthalate plasticizers | Recommended.
69 | November 2011 | 25 Phosphate ester flame retardants | Recommended.
69 | November 2011 | 2 Other flame retardants | Recommended.
69 | November 2011 | 9 Chemicals to which children living near hazardous waste sites may be exposed | Recommended.
69 | November 2011 | 19 Diisocyanates and related compounds | Recommended.

I. Background

The ITC was established by TSCA section 4(e) “to make recommendations to the Administrator respecting the chemical substances and mixtures to which the Administrator should give priority consideration for the promulgation of rules for testing under section 4(a) * * * At least every six months * * *, the Committee shall make such revisions to the Priority Testing List as it determines to be necessary and transmit them to the Administrator together with the Committee's reasons for the revisions” (Public Law 94-469, 90 Stat. 2003 et seq., 15 U.S.C. 2601 et seq.). ITC reports are available from the ITC's Web site (http://www.epa.gov/oppt/itc) and from regulations.gov (http://www.regulations.gov) after publication in the Federal Register. The ITC produces its revisions to the TSCA section 4(e) Priority Testing List with administrative and technical support from the ITC staff and ITC members. ITC members and staff are listed at the end of this report.

II. ITC's Activities During This Reporting Period (December 2012 to May 2013)

The ITC welcomed a new member and new alternate member from the Department of Commerce's National Institute of Standards and Technology and a new member from the National Science Foundation.

During this reporting period, the ITC discussed the 16 chemicals with insufficient dermal absorption rate data, branched 4-nonylphenol (mixed isomers), phenol, 4-(1,1,3,3-tetramethylbutyl)-, 148 HPV Challenge Program orphan chemicals, cadmium and cadmium compounds, 6 non-phthalate plasticizers, 25 phosphate ester and 2 other flame retardants, 9 chemicals to which children living near hazardous waste sites may be exposed, and 69 diisocyanates and related compounds remaining on the TSCA section 4(e) Priority Testing List. As a result of these discussions, the ITC removed 16 chemicals with insufficient dermal absorption rate data, 98 HPV Challenge Program orphan chemicals, and 50 diisocyanates and related compounds from the TSCA section 4(e) Priority Testing List. Orphan chemicals are those HPV chemicals for which no sponsors have volunteered to develop and submit robust summaries of basic hazard and fate testing data to the EPA. The hazard and fate testing data requested by the EPA for HPV Challenge Program orphan chemicals are necessary to establish a screening level understanding of their potential human health and environmental impacts. The chemicals with insufficient dermal absorption rate data, HPV Challenge Program orphan chemicals and diisocyanates and related compounds are discussed further in Unit III. of this 72nd ITC Report.

As noted in this unit, the ITC also discussed the following chemicals that remain on the TSCA section 4(e) Priority Testing List: Branched 4-nonylphenol (mixed isomers), phenol, 4-(1,1,3,3-tetramethylbutyl)-, cadmium and cadmium compounds, 6 non-phthalate plasticizers, 25 phosphate ester flame retardants, 2 other flame retardants, and 9 chemicals to which children living near hazardous waste sites may be exposed.

Branched 4-nonylphenol (mixed isomers) (CAS No. 84852-15-3) and phenol, 4-(1,1,3,3-tetramethylbutyl)- (CAS No. 140-66-9) were added to the TSCA section 4(e) Priority Testing List in the ITC's 37th and 41st Reports along with numerous other alkylphenols, alkylphenol ethoxylates, and poly alkylphenols (Refs. 1 and 2). The remaining data needed for branched 4-nonylphenol (mixed isomers) and phenol, 4-(1,1,3,3-tetramethylbutyl)- can be obtained from avian reproduction testing and fish multi-generation testing, respectively. Branched 4-nonylphenol (mixed isomers) and phenol, 4-(1,1,3,3-tetramethylbutyl)- will remain on the TSCA section 4(e) Priority Testing List until the avian reproduction testing and fish multi-generation testing is completed or other information becomes available to justify removing them from the TSCA section 4(e) Priority Testing List.

Cadmium and cadmium compounds were added to the TSCA section 4(e) Priority Testing List in the ITC's 68th and 69th Reports (Refs. 3 and 4). Cadmium and cadmium compounds were included in a TSCA section 8(d) Health and Safety Data Reporting (HaSDR) rule that was published in the Federal Register of December 3, 2012 (77 FR 71561) (FRL-9355-9). After receiving adverse comments to the HaSDR rule, EPA published a document withdrawing the HaSDR rule in the Federal Register of December 28, 2012 (77 FR 76419) (FRL-9375-3) due to questions and concerns raised about the scope and extent of the HaSDR rule. EPA is considering the questions and concerns raised in response to the HaSDR rule and next steps with regard to that rule.

Six non-phthalate plasticizers, 25 phosphate ester flame retardants, and 2 other flame retardants were added to the TSCA section 4(e) Priority Testing List in the ITC's 69th Report (Ref. 4). They were added to obtain existing bio-monitoring data on urinary metabolites that will be used to assess the risks of these chemicals. The 2 other flame retardants, 1,2-benzenedicarboxylic acid, 3,4,5,6-tetrabromo-, 1,2-bis(2-ethylhexyl) ester, a.k.a. bis(2-ethyl-1-hexyl) tetrabromophthalate (CAS No. 26040-51-7) and benzoic acid, 2,3,4,5-tetrabromo-, 2-ethylhexyl ester, a.k.a. 2-ethylhexyl-2,3,4,5-tetrabromobenzoate (CAS No. 183658-27-7) are included in the assessment strategy that EPA developed for brominated phthalates (http://www.epa.gov/oppt/existingchemicals/pubs/2013wpractivities.html).

The U.S. Department of the Interior (DOI) and Environment Canada are collaborating on a study involving exposure of American Kestrels (Falco sparverius) to 4 of the phosphate ester flame retardants discussed in the ITC's 69th Report (Ref. 4). The 4 phosphate ester flame retardants include: Ethanol, 2-butoxy-, 1,1',1”-phosphate, a.k.a. tri(2-butoxyethyl) phosphate (CAS No. 78-51-3); ethanol, 2-chloro-, phosphate (3:1), a.k.a. tris(2-chloroethyl) phosphate (CAS No. 115-96-8); 2-propanol, 1-chloro-, 2,2',2”-phosphate, a.k.a. tris(1-chloro-2-propyl)phosphate (CAS No. 13674-84-5) and 2-propanol, 1,3-dichloro-, phosphate (3:1), a.k.a. tris(1,3-dichloro-2-propyl) phosphate (CAS#: 13674-87-8). The study will provide novel information on uptake kinetics and potential toxicity of priority phosphate ester flame retardants that are currently found in wild bird eggs in North America. One of these phosphate ester flame retardants, ethanol, 2-chloro-, phosphate (3:1), a.k.a. tris(2-chloroethyl) phosphate (CAS No. 115-96-8) is included in the risk assessment strategy that EPA is developing for chlorinated phosphate esters (http://www.epa.gov/oppt/existingchemicals/pubs/2013wpractivities.html).

Nine chemicals to which children living near hazardous waste sites may be exposed were added to the TSCA section 4(e) Priority Testing List in the ITC's 69th Report (Ref. 4). They were added to obtain existing biomonitoring data on blood levels that will be used to fill priority data needs that were identified during the development of ATSDR's Toxicological Profiles. Priority data needs are published in the Federal Register and represent a wide variety of needs, including biomonitoring studies to help establish reference values for exposed populations as well as background levels for the general population (http://www.atsdr.cdc.gov/pdns/index.asp). The 9 chemicals to which children living near hazardous waste sites may be exposed are from the current unfilled priority data needs and any biomonitoring data will be used to conduct public health assessments. The EPA is deliberating options for satisfying the data needs for these 9 chemicals.

III. Chemicals Removed From the TSCA Section (4)(e) Priority Testing List

A. Chemicals With Insufficient Dermal Absorption Rate Data

In its 31st, 32nd, and 35th ITC Reports, the Occupational Safety and Health Administration (OSHA) requested that the ITC add 24, 34, and 25 chemicals, respectively, to the TSCA section 4(e) Priority Testing List and designate them for testing to develop dermal absorption rate data (Refs. 5, 6, and 7). The ITC removed methyl methacrylate and diethyl phthalate from the TSCA section 4(e) Priority Testing List in its 34th ITC Report (Ref. 8) and cyclohexanone from the TSCA section 4(e) Priority Testing List in its 36th ITC Report (Ref. 9). Methyl methacrylate, diethyl phthalate, and cyclohexanone were removed from the TSCA section 4(e) Priority Testing List because dermal absorption rate data were identified after these chemicals were added to the TSCA section 4(e) Priority Testing List. In its 45th ITC Report (Ref. 10), the ITC removed 47 chemicals designated for dermal absorption rate testing from the TSCA section 4(e) Priority Testing List, because the EPA published a rule proposing dermal absorption rate testing for these chemicals (Ref. 11). In 2004, the EPA reviewed more recent production volume, exposure, and dermal absorption rate data and promulgated a rule requiring dermal absorption rate testing for 34 of these chemicals (Ref. 12). The rationales for EPA's decision not to finalize testing requirements for the other 13 chemicals in the proposed rule are described in Ref. 11. In its 59th ITC Report, the ITC removed 16 more chemicals with insufficient dermal absorption rate data from the TSCA section 4(e) Priority Testing List (Ref. 13). The ITC removed these 16 chemicals because their production volumes indicated low potential for occupational exposures. In this 72nd ITC Report, the ITC is removing the 16 remaining chemicals with insufficient dermal absorption rate data from the TSCA section 4(e) Priority Testing List (Table 2 of this unit). OSHA determined that for these 16 chemicals, information from dermal studies can be readily obtained through the OECD existing chemical database (eChemPortal), the EPA HPV database (High Production Volume Information System (HPVIS) or other authoritative scientific resources (Ref. 14). The ITC is removing these chemicals as a result of OSHA's determination that sufficient information is currently available on the dermal absorption characteristics of these chemicals to warrant their removal from the TSCA section 4(e) Priority Testing List.

Table 2—Chemicals With Insufficient Dermal Absorption Rate Data Being Removed From the Priority Testing List
CAS No. | Chemical name
75-12-7 | Formamide.
88-72-2 | Benzene, 1-methyl-2-nitro-; o-nitrotoluene.
89-72-5 | Phenol, 2-(1-methylpropyl)-; o-sec-butylphenol.
90-04-0 | Benzenamine, 2-methoxy-; o-anisidine.
95-13-6 | 1H-Indene; indene.
96-18-4 | Propane, 1,2,3-trichloro-; 1,2,3-trichloropropane.
99-08-1 | Benzene, 1-methyl-3-nitro-; m-nitrotoluene.
100-63-0 | Hydrazine, phenyl-; phenylhydrazine.
106-49-0 | Benzenamine, 4-methyl-; p-toluidine.
108-44-1 | Benzenamine, 3-methyl-; m-toluidine.
108-87-2 | Cyclohexane, methyl-; methylcyclohexane.
121-14-2 | Benzene, 1-methyl-2,4-dinitro-; 2,4-dinitrotoluene.
287-92-3 | Cyclopentane.
540-59-0 | Ethene, 1,2-dichloro-; 1,2-dichloroethylene.
542-92-7 | 1,3-Cyclopentadiene.
626-17-5 | 1,3-Benzenedicarbonitrile; 1,3-dicyanobenzene.

B. HPV Challenge Program Orphan Chemicals

In 2004, at the EPA's request, the ITC added 281 HPV Challenge Program orphan (unsponsored) chemicals to the TSCA section 4(e) Priority Testing List in the ITC's 55th and 56th Reports (Refs. 15 and 16). As of December 2012, 133 HPV Challenge Program orphan chemicals had been removed from the TSCA section 4(e) Priority Testing List because they were included in EPA's test rules, the testing was voluntarily sponsored or because they no longer met the > 1 million lb criterion for the HPV Challenge Program. Based on data received from the 2006 IUR rule, and the 2012 CDR rule, EPA identified 98 HPV Challenge Program orphan chemicals with production volumes consistently below 1 million lb. Since these 98 chemicals no longer exceed the 1 million lb criterion for the HPV Challenge Program, EPA is requesting their removal from the TSCA section 4(e) Priority Testing List in this 72nd ITC Report (Ref. 17). The 98 HPV Challenge Program orphan chemicals being removed from the TSCA section 4(e) Priority Testing List are listed in Table 3 of this unit. The 50 HPV Challenge Program orphan chemicals remaining on the TSCA section 4(e) Priority Testing List are listed in Table 4 of this unit.

Table 3—High Production Volume Challenge Program Orphan Chemicals Being Removed From the TSCA Section 4(e) Priority Testing List
CAS No. | Chemical name
77-76-9 | Propane, 2,2-dimethoxy-.
81-07-2 | 1,2-Benzisothiazol-3(2H)-one, 1,1-dioxide.
81-84-5 | 1H,3H-Naphtho[1,8-cd]pyran-1,3-dione.
85-40-5 | 1H-Isoindole-1,3(2H)-dione, 3a,4,7,7a-tetrahydro-.
97-00-7 | Benzene, 1-chloro-2,4-dinitro-.
101-34-8 | 9-Octadecenoic acid, 12-(acetyloxy)-, 1,1′,1″-(1,2,3-propanetriyl) ester, (9Z,9′Z,9″Z,12R,12′R,12″R)-.
104-93-8 | Benzene, 1-methoxy-4-methyl-.
110-33-8 | Hexanedioic acid, 1,6-dihexyl ester.
111-91-1 | Ethane, 1,1′-[methylenebis(oxy)]bis[2-chloro-.
118-90-1 | Benzoic acid, 2-methyl-.
138-25-0 | 1,3-Benzenedicarboxylic acid, 5-sulfo-, 1,3-dimethyl ester.
139-40-2 | 1,3,5-Triazine-2,4-diamine, 6-chloro-N2,N4-bis(1-methylethyl)-.
140-93-2 | Carbonodithioic acid, O-(1-methylethyl) ester, sodium salt (1:1).
142-73-4 | Glycine, N-(carboxymethyl)-.
330-54-1 | Urea, N ′ -(3,4-dichlorophenyl)-N,N-dimethyl-.
513-74-6 | Carbamodithioic acid, ammonium salt (1:1).
529-33-9 | 1-Naphthalenol, 1,2,3,4-tetrahydro-.
557-61-9 | 1-Octacosanol.
563-72-4 | Ethanedioic acid, calcium salt (1:1).
592-45-0 | 1,4-Hexadiene.
617-94-7 | Benzenemethanol, .alpha.,.alpha.-dimethyl-.
628-13-7 | Pyridine, hydrochloride (1:1).
628-96-6 | 1,2-Ethanediol, 1,2-dinitrate.
645-62-5 | 2-Hexenal, 2-ethyl-.
693-95-8 | Thiazole, 4-methyl-.
756-80-9 | Phosphorodithioic acid, O,O-dimethyl ester.
939-97-9 | Benzaldehyde, 4-(1,1-dimethylethyl)-.
1000-82-4 | Urea, N-(hydroxymethyl)-.
1002-69-3 | Decane, 1-chloro-.
1111-78-0 | Carbamic acid, ammonium salt (1:1).
1445-45-0 | Ethane, 1,1,1-trimethoxy-.
1498-51-7 | Phosphorodichloridic acid, ethyl ester.
1912-24-9 | 1,3,5-Triazine-2,4-diamine, 6-chloro-N2-ethyl-N4-(1-methylethyl)-.
2152-64-9 | Benzenamine, 4,4′-[[4-(phenylimino)-2,5-cyclohexadien-1-ylidene]methylene]bis[N-phenyl-, hydrochloride (1:1).
2524-03-0 | Phosphorochloridothioic acid, O,O-dimethyl ester.
2814-20-2 | 4(3H)-Pyrimidinone, 6-methyl-2-(1-methylethyl)-.
2905-62-6 | Benzoyl chloride, 3,5-dichloro-.
2915-53-9 | 2-Butenedioic acid (2Z)-, 1,4-dioctyl ester.
3132-99-8 | Benzaldehyde, 3-bromo-.
3779-63-3 | 1,3,5-Triazine-2,4,6(1H,3H,5H)-trione, 1,3,5-tris(6-isocyanatohexyl)-.
3965-55-7 | 1,3-Benzenedicarboxylic acid, 5-sulfo-, 1,3-dimethyl ester, sodium salt (1:1).
4035-89-6 | Imidodicarbonic diamide, N,N ′,2-tris(6-isocyanatohexyl)-.
4316-73-8 | Glycine, N-methyl-, sodium salt (1:1).
5216-25-1 | Benzene, 1-chloro-4-(trichloromethyl)-.
5460-09-3 | 2,7-Naphthalenedisulfonic acid, 4-amino-5-hydroxy-, sodium salt (1:1).
5915-41-3 | 1,3,5-Triazine-2,4-diamine, 6-chloro-N2-(1,1-dimethylethyl)-N4-ethyl-.
7795-95-1 | 1-Octanesulfonyl chloride.
10265-69-7 | Glycine, N-phenyl-, sodium salt (1:1).
13749-94-5 | Ethanimidothioic acid, N-hydroxy-, methyl ester.
13826-35-2 | Benzenemethanol, 3-phenoxy-.
17321-47-0 | Phosphoramidothioic acid, O,O-dimethyl ester.
19438-61-0 | 1,3-Isobenzofurandione, 5-methyl-.
19525-59-8 | Glycine, N-phenyl-, potassium salt (1:1).
20068-02-4 | 2-Butenenitrile, 2-methyl-, (2Z)-.
20227-53-6 | Phosphorous acid, 2-(1,1-dimethylethyl)-4-[1-[3-(1,1-dimethylethyl)-4-hydroxyphenyl]-1-methylethyl]phenyl bis(4-nonylphenyl) ester.
25154-38-5 | Piperazineethanol.
25168-05-2 | Benzene, chloromethyl-.
25168-06-3 | Phenol, (1-methylethyl)-.
25383-99-7 | Octadecanoic acid, 2-(1-carboxyethoxy)-1-methyl-2-oxoethyl ester, sodium salt (1:1).
26377-29-7 | Phosphorodithioic acid, O,O-dimethyl ester, sodium salt (1:1).
26401-27-4 | Phosphorous acid, isooctyl diphenyl ester.
27193-28-8 | Phenol, (1,1,3,3-tetramethylbutyl)-.
30574-97-1 | 2-Butenenitrile, 2-methyl-, (2E)-.
34689-46-8 | Phenol, methyl-, sodium salt (1:1).
38185-06-7 | Benzenesulfonic acid, 4-chloro-3,5-dinitro-, potassium salt (1:1).
39515-51-0 | Benzaldehyde, 3-phenoxy-.
40630-63-5 | 1-Octanesulfonyl fluoride.
40876-98-0 | Butanedioic acid, 2-oxo-, 1,4-diethyl ester, ion(1-), sodium (1:1).
51632-16-7 | Benzene, 1-(bromomethyl)-3-phenoxy-.
52663-57-7 | Ethanol, 2-butoxy-, sodium salt (1:1).
57693-14-8 | Chromate(3-), bis[3-(hydroxy-.kappa.O)-4-[2-[2-(hydroxy-.kappa.O)-1-naphthalenyl] diazenyl-.kappa.N1]-7-nitro-1-naphthalenesulfonato(3-)]-, sodium (1:3).
61789-85-3 | Sulfonic acids, petroleum.
63302-49-8 | Phosphorochloridous acid, bis(4-nonylphenyl) ester.
64743-02-8 | Alkenes, C>10 .alpha.-.
64743-03-9 | Phenols (petroleum).
65996-83-0 | Extracts, coal tar oil alk.
65996-86-3 | Extract oils (coal), tar base.
65996-87-4 | Extract residues (coal), tar oil alk.
68081-86-7 | Phenol, nonyl derivs.
68188-18-1 | Paraffin oils, chlorosulfonated, saponified.
68309-16-0 | Fatty acids, tall-oil, 2-(2-hydroxyethoxy)ethyl esters.
68608-59-3 | Ethane, 1,2-dichloro-, manuf. of, by-products from, distn. lights.
68609-05-2 | Cyclohexane, oxidized, non-acidic by-products, distn. lights.
68815-50-9 | Octadecanoic acid, reaction products with 2-[(2-aminoethyl)amino]ethanol.
68915-05-9 | Fatty acids, tall-oil, low-boiling, reaction products with ammonia-ethanolamine reaction by-products.
68918-16-1 | Tar, coal, dried and oxidized.
68937-29-1 | 1,6-Hexanediol, distn. residues.
68937-69-9 | Carboxylic acids, C6-18 and C5-15-di-.
68955-37-3 | Acid chlorides, tallow, hydrogenated.
68987-41-7 | Benzene, ethylenated.
68987-66-6 | Ethene, hydrated, by-products from.
68990-65-8 | Fats and Glyceridic oils, vegetable, reclaimed.
70851-08-0 | Amides, coco, N-[3-(dimethylamino)propyl], alkylation products with sodium 3-chloro-2-hydroxypropanesulfonate.
72854-27-4 | Tannins, reaction products with sodium bisulfite, sodium polysulfide and sodium sulfite.
83864-02-2 | Nickel, bis[(cyano-.kappa.C)triphenylborato(1-)-kappa.N]bis(hexanedinitrile-.kappa.N,.kappa.N ′)-.
84501-86-0 | Hexanedioic acid, esters with high-boiling C6-10-alkene hydroformylation products.
90640-86-1 | Distillates (coal tar), heavy oils.
125997-20-8 | Phosphoric acid, mixed 3-bromo-2,2-dimethylpropyl and 2-bromoethyl and 2-chloroethyl esters.

Table 4—High Production Volume Program Orphan Chemicals Remaining on the TSCA Section 4(e) Priority Testing List
CAS No. | Chemical name
94-96-2 | 1,3-Hexanediol, 2-ethyl-.
104-66-5 | Benzene, 1,1′-[1,2-ethanediylbis(oxy)]bis-.
107-39-1 | 1-Pentene, 2,4,4-trimethyl-.
107-40-4 | 2-Pentene, 2,4,4-trimethyl-.
111-85-3 | Octane, 1-chloro-.
121-82-4 | 1,3,5-Triazine, hexahydro-1,3,5-trinitro-.
137-20-2 | Ethanesulfonic acid, 2-[methyl[(9Z)-1-oxo-9-octadecen-1-yl]amino]-, sodium salt (1:1).
529-34-0 | 1(2H)-Naphthalenone, 3,4-dihydro-.
590-19-2 | 1,2-Butadiene.
598-72-1 | Propanoic acid, 2-bromo-.
1401-55-4 | Tannins.
1738-25-6 | Propanenitrile, 3-(dimethylamino)-.
2210-79-9 | Oxirane, 2-[(2-methylphenoxy)methyl]-.
2372-45-4 | 1-Butanol, sodium salt (1:1).
2409-55-4 | Phenol, 2-(1,1-dimethylethyl)-4-methyl-.
2425-54-9 | Tetradecane, 1-chloro-.
2691-41-0 | 1,3,5,7-Tetrazocine, octahydro-1,3,5,7-tetranitro-.
3039-83-6 | Ethenesulfonic acid, sodium salt (1:1).
3386-33-2 | Octadecane, 1-chloro-.
4170-30-3 | 2-Butenal.
4860-03-1 | Hexadecane, 1-chloro-.
8001-58-9 | Creosote.
17103-31-0 | Urea, sulfate (2:1).
17976-43-1 | 2,4,6,8,3,5,7-Benzotetraoxatriplumbacycloundecin-3,5,7-triylidene, 1,9-dihydro-1,9-dioxo-.
21351-39-3 | Urea, sulfate (1:1).
24794-58-9 | Formic acid, compd. with 2,2′,2″-nitrilotris[ethanol] (1:1).
26680-54-6 | 2,5-Furandione, dihydro-3-(octen-1-yl)-.
28908-00-1 | Benzothiazole, 2-[(chloromethyl)thio]-.
38321-18-5 | Ethanol, 2-(2-butoxyethoxy)-, sodium salt (1:1).
52184-19-7 | Phenol, 2,4-bis(1,1-dimethylpropyl)-6-[2-(2-nitrophenyl)diazenyl]-.
56803-37-3 | Phosphoric acid, (1,1-dimethylethyl)phenyl diphenyl ester.
68187-41-7 | Phosphorodithioic acid, O,O-di-C1-14-alkyl esters.
68187-59-7 | Coal, anthracite, calcined.
68308-74-7 | Amides, tall-oil fatty, N,N-di-Me.
68309-27-3 | Fatty acids, tall-oil, sulfonated, sodium salts.
68441-66-7 | Decanoic acid, mixed esters with dipentaerythritol, octanoic acid and valeric acid.
68515-89-9 | Barium, carbonate nonylphenol complexes.
68527-22-0 | Naphtha (petroleum), clay-treated light straight-run.
68584-25-8 | Benzenesulfonic acid, C10-16-alkyl derivs., compds. with triethanolamine.
68602-81-3 | Distillates, hydrocarbon resin prodn. higher boiling.
68649-42-3 | Phosphorodithioic acid, O,O-di-C1-14-alkyl esters, zinc salts.
68650-36-2 | Aromatic hydrocarbons, C8, o-xylene-lean.
68782-97-8 | Distillates (petroleum), hydrofined lubricating-oil.
68919-17-5 | Hydrocarbons, C12-20, catalytic alkylation by-products.
68953-80-0 | Benzene, mixed with toluene, dealkylation product.
68955-76-0 | Aromatic hydrocarbons, C9-16, biphenyl deriv.-rich.
68990-61-4 | Tar, coal, high-temp., high-solids.
70084-98-9 | Terpenes and Terpenoids, C10-30, distn. residues.
71077-05-9 | Ethanol, 2,2′-oxybis-, reaction products with ammonia, morpholine product tower residues.
119345-02-7 | Benzene, 1,1′-oxybis-, tetrapropylene derivs.

C. Diisocyanates and Related Compounds

At the request of the current EPA member to the ITC, 69 diisocyanates and related compounds were added to the TSCA section 4(e) Priority Testing List in the ITC's 69th Report. They were added to obtain numerous data on diisocyanates and related compounds used to formulate a broad class of polyurethane products (e.g., sealants, adhesives, etc.) that are intended to further react upon end-use (Ref. 4). The EPA determined that 50 of these diisocyanates and related compounds were not reported to the EPA's 2006 IUR and 2012 CDR rules. Since these 50 diisocyanates and related compounds were not reported to the EPA's 2006 IUR and 2012 CDR rules, EPA is requesting their removal from the TSCA section 4(e) Priority Testing List in this 72nd ITC Report (Ref. 17). The 50 diisocyanates and related compounds being removed from the TSCA section 4(e) Priority Testing List are listed in Table 5 of this unit. The 19 diisocyanates and related compounds remaining on the TSCA section 4(e) Priority Testing List are listed in Table 6 of this unit.

Table 5—Fifty Diisocyanates and Related Compounds Being Removed From the TSCA Section 4(e) Priority Testing List
CAS No. | Chemical name
104-49-4 | Benzene, 1,4-diisocyanato-.
123-61-5 | Benzene, 1,3-diisocyanato-.
139-25-3 | Benzene, 1,1′-methylenebis[4-isocyanato-3-methyl-.
2422-91-5 | Benzene, 1,1′,1″-methylidynetris[4-isocyanato-.
2536-05-2 | Benzene, 1,1′-methylenebis[2-isocyanato-.
3634-83-1 | Benzene, 1,3-bis(isocyanatomethyl)-.
4035-89-6 | Imidodicarbonic diamide, N,N ′2-tris(6-isocyanatohexyl)-.
4128-73-8 | Benzene, 1,1′-oxybis[4-isocyanato-.
7517-76-2 | Cyclohexane, 1,4-diisocyanato-, trans-.
9017-01-0 | Benzene, 1,3-diisocyanatomethyl-, homopolymer; TDI homopolymer.
9019-85-6 | Benzene, 1,3-diisocyanatomethyl-, trimer.
10347-54-3 | Cyclohexane, 1,4-bis(isocyanatomethyl)-.
13622-90-7 | Cyclohexane, 1,1′-methylenebis[4-isocyanato-, (trans,trans)-.
16325-38-5 | Benzene, 1,2,4,5-tetrachloro-3,6-bis(isocyanatomethyl)-.
17589-24-1 | 1,3-Diazetidine-2,4-dione, 1,3-bis[4-[(4-isocyanatophenyl)methyl]phenyl]-.
23370-68-5 | 1,3-Diazetidine-2,4-dione, 1,3-bis[(5-isocyanato-1,3,3-trimethylcyclohexyl)methyl]-.
25686-28-6 | Benzene, 1,1′-methylenebis[4-isocyanato-, homopolymer; MDI homopolymer.
25854-16-4 | Benzene, bis(isocyanatomethyl)-.
26603-40-7 | 1,3,5-Triazine-2,4,6(1H,3H,5H)-trione, 1,3,5-tris(3-isocyanatomethylphenyl)-.
31107-36-5 | 1,3-Diazetidine-2-one, 1,3-bis[4-[(4-isocyanatophenyl)methyl]phenyl]-4-[[4-[(4-isocyanatophenyl)methyl]phenyl]imino]-.
38661-72-2 | Cyclohexane, 1,3-bis(isocyanatomethyl)-.
42170-25-2 | Cyclohexane, bis(isocyanatomethyl)-.
50639-37-7 | 2H-1,3,5-Oxadiazine-2,4,6(3H,5H)-trione, 3,5-bis(6-isocyanatohexyl)-.
50830-59-6 | 1,3,4-Thiadiazole, 2-isocyanato-5-(trifluoromethyl)-, dimer.
51508-06-6 | 1,3,4-Thiadiazole, 2-(1,1-dimethylethyl)-5-isocyanato-, dimer.
53880-05-0 | Cyclohexane, 5-isocyanato-1-(isocyanatomethyl)-1,3,3-trimethyl-, homopolymer; isophorone diisocyanate homopolymer.
55525-54-7 | Urea, N,N ′-bis[(5-isocyanato-1,3,3-trimethylcyclohexyl)methyl]-.
60732-52-7 | Carbamic acid, N,N'-(3-isocyanatomethylphenyl)-, C,C ′-(oxydi-2,1-ethanediyl) ester.
65087-21-0 | Carbamic acid, N-[4-[(4-isocyanatocyclohexyl)methyl]cyclohexyl]-, C,C ′-(oxydi-2,1-ethanediyl) ester.
65104-99-6 | Imidodicarbonic diamide, 2,2′-[methylenebis(2-chloro-4,1-phenylene)]bis[N,N ′-bis(3-isocyanatomethylphenyl)-.
65105-00-2 | Carbamic acid, N-(3-isocyanatomethylphenyl)-, C,C ′-(1-methyl-1,3-propanediyl) ester.
65105-02-4 | Carbamic acid, N-(3-isocyanatomethylphenyl)-, C,C ′-(1,4-butanediyl) ester.
67873-91-0 | 1,3,5-Triazine-2,4,6(1H,3H,5H)-trione, 1,3,5-tris[(5-isocyanato-1,3,3-trimethylcyclohexyl)methyl]-.
68083-39-6 | Benzenamine, N,N ′-methanetetraylbis[3-isocyanato-2,4,6-tris(1-methylethyl)-.
68092-73-9 | Carbamic acid, N-(3-isocyanatomethylphenyl)-, C,C ′-(1,2-ethanediyl) ester.
68092-74-0 | Carbamic acid, N-(3-isocyanatomethylphenyl)-, C,C ′-[oxybis(1-methyl-2,1-ethanediyl)] ester.
68133-14-2 | Carbamic acid, N-(3-isocyanatomethylphenyl)-, C,C ′-[[[(diethoxyphosphinyl)methyl]imino]di-2,1-ethanediyl] ester.
68310-46-3 | Hexanoic acid, [[2-ethyl-2-[[[[[5-isocyanato-1(or 5)-(methoxycarbonyl)pentyl]amino]carbonyl]oxy]methyl]-1,3-propanediyl]bis(oxycarbonylimino)]bis[isocyanato-, 1,1′-dimethyl ester.
68366-14-3 | Carbamic acid, N-[5-isocyanato-2(or 4)-methylphenyl]-, C,C ′-(1-methyl-1,3-propanediyl) ester.
68555-56-6 | 1,3-Diazetidine-2,4-dione, 1,3-bis(4-isocyanato-3-methylphenyl)-.
68975-84-8 | Carbamic acid, N-[(5-isocyanato-1,3,3-trimethylcyclohexyl)methyl]-, C,C ′-(oxydi-2,1-ethanediyl) ester.
69878-18-8 | Hexanoic acid, 2,6-diisocyanato-, 2-isocyanatoethyl ester.
70024-76-9 | Hexatriacontane, diisocyanato-, branched.
70198-24-2 | Undecane, 1,6,11-triisocyanato-.
71130-76-2 | Urea, N-(3-isocyanatomethylphenyl)-N ′-[[[4-[[[(3-isocyanatomethylphenyl)amino]carbonyl]amino]phenyl]methyl]phenyl]-.
71832-70-7 | Carbamic acid, N-[4-[(4-isocyanatophenyl)methyl]phenyl]-, C,C ′-(oxydi-2,1-ethanediyl) ester.
75790-84-0 | Benzene, 2-isocyanato-4-[(4-isocyanatophenyl)methyl]-1-methyl-.
75790-87-3 | Benzene, 1-isocyanato-2-[(4-isocyanatophenyl)thio]-.
85702-90-5 | 2,9,11,13-Tetraazanonadecanethioic acid, 19-isocyanato-11-(6-isocyanatohexyl)-10,12-dioxo-, S-[3-(trimethoxysilyl)propyl] ester.
106790-31-2 | Benzenamine, 4-isocyanato-N,N-bis(4-isocyanatophenyl)-2,5-dimethoxy-.

Table 6—Nineteen Diisocyanates and Related Compounds Remaining on the TSCA Section 4(e) Priority Testing List
CAS No. | Chemical name
91-08-7 | Benzene, 1,3-diisocyanato-2-methyl-.
91-97-4 | 1,1′-Biphenyl, 4,4′-diisocyanato-3,3′-dimethyl-.
101-68-8 | Benzene, 1,1′-methylenebis[4-isocyanato-.
584-84-9 | Benzene, 2,4-diisocyanato-1-methyl-.
822-06-0 | Hexane, 1,6-diisocyanato-.
2778-42-9 | Benzene, 1,3-bis(1-isocyanato-1-methylethyl)-.
3173-72-6 | Naphthalene, 1,5-diisocyanato-.
3779-63-3 | 1,3,5-Triazine-2,4,6(1H,3H,5H)-trione, 1,3,5-tris(6-isocyanatohexyl)-.
4098-71-9 | Cyclohexane, 5-isocyanato-1-(isocyanatomethyl)-1,3,3-trimethyl-.
5124-30-1 | Cyclohexane, 1,1′-methylenebis[4-isocyanato-.
5873-54-1 | Benzene, 1-isocyanato-2-[(4-isocyanatophenyl)methyl]-.
9016-87-9 | Isocyanic acid, polymethylenepolyphenylene ester.
15646-96-5 | Hexane, 1,6-diisocyanato-2,4,4-trimethyl-.
16938-22-0 | Hexane, 1,6-diisocyanato-2,2,4-trimethyl-.
26447-40-5 | Benzene, 1,1′-methylenebis[isocyanato-.
26471-62-5 | Benzene, 1,3-diisocyanatomethyl-.
26747-90-0 | 1,3-Diazetidine-2,4-dione, 1,3-bis(3-isocyanatomethylphenyl)-.
28182-81-2 | Hexane, 1,6-diisocyanato-, homopolymer; HDI homopolymer.
68239-06-5 | Cyclohexane, 2-heptyl-3,4-bis(9-isocyanatononyl)-1-pentyl-.

IV. References

1. ITC. Thirty-Seventh Report of the ITC; Notice. Federal Register (61 FR 4188, February 2, 1996) (FRL-4991-6). Available at www.regulations.gov. Docket ID number EPA-HQ-OPPT-2013-0248.

2. ITC. Forty-First Report of the ITC; Notice. Federal Register (63 FR 17658, April 9, 1998) (FRL-5773-5). Available at www.regulations.gov. Docket ID number EPA-HQ-OPPT-2013-0248.

3. ITC. Sixty-Eighth Report of the ITC; Notice. Federal Register (76 FR 46174, August 1, 2011) (FRL-8879-3). Available at www.regulations.gov. Docket ID number EPA-HQ-OPPT-2013-0248.

4. ITC. Sixty-Ninth Report of the ITC; Notice. Federal Register (77 FR 30856, May 23, 2012) (FRL-9346-3). Available at www.regulations.gov. Docket ID number EPA-HQ-OPPT-2013-0248.

5. ITC. Thirty-First Report of the ITC; Notice. Federal Register (58 FR 26898, May 5, 1993) (FRL-4583-4). Available at www.regulations.gov. Docket ID number EPA-HQ-OPPT-2013-0248.

6. ITC. Thirty-Second Report of the ITC; Notice. Federal Register (58 FR 38490, July 16, 1993) (FRL-4630-2). Available at www.regulations.gov. Docket ID number EPA-HQ-OPPT-2013-0248.

7. ITC. Thirty-Fifth Report of the ITC; Notice. Federal Register (59 FR 67596, December 29, 1994) (FRL-4923-2). Available at www.regulations.gov. Docket ID number EPA-HQ-OPPT-2013-0248.

8. ITC. Thirty-Fourth Report of the ITC; Notice. Federal Register (59 FR 35720, July 13, 1994) (FRL-4870-4). Available at www.regulations.gov. Docket ID number EPA-HQ-OPPT-2013-0248.

9. ITC. Thirty-Sixth Report of the ITC; Notice. Federal Register (60 FR 42982, August 17, 1995) (FRL-4965-6). Available at www.regulations.gov. Docket ID number EPA-HQ-OPPT-2013-0248.

10. ITC. Forty-Fifth Report of the ITC; Notice. Federal Register (65 FR 75544, December 1, 2000) (FRL-6399-5). Available at www.regulations.gov. Docket ID number EPA-HQ-OPPT-2013-0248.

11. EPA. Proposed Test Rule for In Vitro Dermal Absorption Rate Testing of Certain Chemicals of Interest to Occupational Safety and Health Administration; Proposed Rule. Federal Register (64 FR 31074, June 9, 1999) (FRL-5760-3). Available at www.regulations.gov. Docket ID number EPA-HQ-OPPT-2013-0248.

12. EPA. In Vitro Dermal Absorption Rate Testing of Certain Chemicals of Interest to the Occupational Safety and Health Administration; Final Rule. Federal Register (69 FR 22402, April 26, 2004) (FRL-7312-2). Available at www.regulations.gov. Docket ID number EPA-HQ-OPPT-2013-0248.

13. ITC. Fifty-Ninth Report of the ITC; Notice. Federal Register (72 FR 2756, January 22, 2007) (FRL 8110-2). Available at www.regulations.gov. Docket ID number EPA-HQ-OPPT-2013-0248.

14. OSHA. Letter to Dr. John D. Walker, re: OSHA's comments for removal of 16 chemicals on the TSCA Section 4(e) Priority Testing List. April 10, 2013. Available at www.regulations.gov. Docket ID number EPA-HQ-OPPT-2013-0248.

15. ITC. Fifty-Fifth Report of the ITC; Notice. Federal Register (70 FR 7364, February 11, 2005) (FRL-7692-1). Available at www.regulations.gov. Docket ID number EPA-HQ-OPPT-2013-0248.

16. ITC. Fifty-Sixth Report of the ITC; Notice. Federal Register (70 FR 61520, October 24, 2005) (FRL-7739-9). Available at www.regulations.gov. Docket ID number EPA-HQ-OPPT-2013-0248.

17. EPA. Memo to Dr. John D. Walker, re: EPA's comments on removal of 98 High Production Volume (HPV) Challenge Program orphan chemicals and 50 diisocyants and related compounds from the TSCA Section 4(e) Priority Testing List. May 8, 2013. Available at www.regulations.gov. Docket ID number EPA-HQ-OPPT-2013-0248.

V. The TSCA Interagency Testing Committee

Statutory Organizations With Representatives

Department of Commerce

National Institute of Standards and Technology

Michele Schantz, Member

Jessica Reliner, Alternate

Environmental Protection Agency

Robert W. Jones, Member

John E. Schaeffer, Alternate

National Institute of Environmental Health Sciences

Nigel Walker, Member

Scott Masten, Alternate

National Institute for Occupational Safety and Health

Dennis W. Lynch, Alternate

National Science Foundation

Tyrone D. Mitchell, Member

Occupational Safety and Health Administration

Janet Carter, Member and Chairperson

Thomas Nerad, Alternate

Liaison Organizations With Representatives

Agency for Toxic Substances and Disease Registry

Glenn D. Todd, Member

Consumer Product Safety Commission

Dominique Johnson, Member

Department of Agriculture

Clifford P. Rice, Member

Cathleen J. Hapeman, Alternate

Department of Defense

Laurie E. Roszell, Member

Department of the Interior

Barnett A. Rattner, Member

Food and Drug Administration

Kirk Arvidson, Member

Ronald F. Chanderbhan, Alternate

ITC Staff

John D. Walker, Director

Carol Savage, Administrative Assistant (NOWCC Employee)

TSCA Interagency Testing Committee (7405M), Office of Pollution Prevention and Toxics, Environmental Protection Agency, 1200 Pennsylvania Ave. NW., Washington, DC 20460-0001; email address: savage.carol@epa.gov; URL: http://www.epa.gov/oppt/itc.

[FR Doc. 2013-17545 Filed 7-23-13; 8:45 am]

BILLING CODE 6560-50-P